DEPARTMENT OF HOUSING AND URBAN DEVELOPMENT

[Docket No. FR-5300-N-08]

Notice of Availability: Notice of Funding Availability (NOFA) for Fiscal Year (FY) 2009; Brownfields Economic Development Initiative (BEDI)

AGENCY: Office of the Assistant Secretary for Community Planning and Development, HUD.

ACTION: Notice.

SUMMARY: HUD announces the availability on its Web site of the application information, submission deadlines, funding criteria, and other requirements for the FY2009 Brownfields Economic Development Initiative (BEDI) NOFA. The BEDI NOFA makes approximately $20 million in assistance available, combining assistance appropriated by the Department of Housing and Urban Development Appropriations Act, 2009 (Pub. L. 111-8, approved March 11, 2009) and the Department of Housing and Urban Development Appropriations Act, 2008 (Pub. L. 110-116, approved December 26, 2007). All BEDI grants must be used in conjunction with a new Section 108-guaranteed loan commitment. Applicants for BEDI assistance must address the requirements established by HUD's Fiscal Year 2009 Notice of Funding Availability (NOFA) Policy Requirements and General Section to the NOFA published on December 29, 2008 (73 FR 79548), as amended on April 16, 2009 (74 FR 17685). Applicants should take particular note that they should follow the application submission instructions contained in this NOFA and not use those in the General Section. The notice providing information regarding the application process, funding criteria and eligibility requirements is available on the HUD Web site at http://www.HUD.gov/BEDI.

FOR FURTHER INFORMATION CONTACT: David Kaminsky, Office of Economic Development, Department of Housing and Urban Development, 451 Seventh Street, SW., Room 7140, Washington, DC 20410; telephone 202-402-4612, or Robert Duncan, telephone 202-402-4681 (these are not toll-free numbers). Persons with speech or hearing impairments may access this telephone number via TTY by calling the toll-free Federal Information Relay Service during working hours at 800-877-8339.

Dated: April 28, 2009.
Nelson R. Bregòn,
General Deputy Assistant Secretary for Community Planning and Development.

[FR Doc. E9-10189 Filed 4-29-09; 4:15 pm]

BILLING CODE 4210-67-P